FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012119-001.

Title: Maersk Line/CMA CGM TP5 Space Charter Agreement.

Parties: A.P. Moller-Maersk A/S and CMA CGM S.A.

Filing Parties: Wayne Rohde, Esq.; Cozen O'Connor; 1627 I Street NW.; Suite 1100; Washington, DC 20006.

Synopsis: The amendment would add China to the geographic scope, add language reflecting the fact that Maersk's TP5 service will be operated in cooperation with another carrier, and delete obsolete language.

Agreement No.: 012161-001.

Title: Siem Car Carrier Pacific AS/Hyundai Glovis Co., Ltd. Space Charter Agreement.

Parties: Siem Car Carrier Pacific AS; Hyundai Glovis Co., Ltd.

Filing Party: Ashley W. Craig; Venable LLP; 575 Seventh Street NW., Washington, DC 20004.

Synopsis: The amendment revises the geographic scope of the agreement to include Asia (including, but not limited to Korea, Japan, Philippines, Singapore, and China), and authorizes the mutual chartering of space between the parties.

Agreement No.: 012180.

Title: Maersk/MSC Vessel Sharing Agreement.

Parties: A.P. Moller Maersk A/S and MSC Mediterranean Shipping Company S.A.

Filing Party: Wayne R. Rohde, Esquire; Cozen O'Connor; 1627 I Street NW., Suite 1100; Washington, DC 20006-4007.

Synopsis: The agreement authorizes the parties to share vessels in the trades between China, Korea, and Japan, and ports in California and Alaska.

Agreement No.: 201216.

Title: Port of Oakland Truck Tracking Program.

Parties: Port of Oakland; Eagle Marine Services; Ports America Outer Harbor Terminal, LLC; Seaside Transportation Services; SSA terminals, LLC; SSA Terminals (Oakland), LLC; Total Terminals International, LLC; and Trapac, Inc.

Filing Party: David F. Smith, Esq., Cozen O'Connor; 1627 I Street NW., Suite 1100; Washington, DC 20006-4007.

Synopsis: The agreement would provide for delivery of data to the Port of Oakland by the participating marine terminal operators, and various arrangements associated with that data delivery.

Agreement No.: 201217.

Title: Port of Long Beach Data Services Agreement.

Parties: Port of Long Beach; PierPass Inc.; Long Beach Container Terminal, Inc.; SSA Terminals, LLC; SSA Terminals (Long Beach), LLC; International Transportation Services, Inc.; Pacific Maritime Services, L.L.C.; and Total Terminals International, LLC.

Filing Party: David F. Smith, Esq., Cozen O'Connor; 1627 I Street NW., Suite 1100; Washington, DC 20006-4007.

Synopsis: The agreement would provide for delivery of data to the Port of Long Beach by the participating marine terminal operators and PierPass Inc., and various arrangements associated with that data delivery.

By Order of the Federal Maritime Commission.
Dated: July 13, 2012.
Karen V. Gregory,
Secretary.

[FR Doc. 2012-17473 Filed 7-17-12; 8:45 am]

BILLING CODE 6730-01-P